DEPARTMENT OF HEALTH AND HUMAN SERVICES

Office of the Secretary

Opioid State Targeted Response Grants

Opioids were responsible for over 33,000 deaths in 2015; this alarming statistic is unacceptable. Through a sustained focus on people, patients, and partnerships, this crisis can be addressed across our nation.

Last month President Trump announced the President's Commission on Combating Drug Addiction and the Opioid Crisis. This Commission is tasked with studying the scope and effectiveness of the federal response to this crisis and providing recommendations to the President for improving it. As the Administration develops a comprehensive strategy to improve the federal response to combat opioids, the U.S. Department of Health and Human Services (HHS) must ensure the Opioid State Targeted Response grants are aligned accordingly and put to the best use possible. Given the urgency of the issue, we understand the need to release the funding for the first year of this program immediately. However, the intentions of HHS for the second year are to develop funding allocations and policies that are the most clinically sound, effective and efficient.

In the interest of ensuring that these resources are applied in the best manner possible, I will be seeking input from the states/territories in the coming weeks and months. As funding from the first year is implemented and monitored, states/territories will be asked to identify best practices, lessons learned, and key strategies that can help HHS further target these funds in the subsequent year to best address this tragic issue.

Dated: April 13, 2017.
Thomas E. Price,
Secretary.

[FR Doc. 2017-08068 Filed 4-20-17; 8:45 am]

BILLING CODE 4162-20-P